DEPARTMENT OF THE TREASURY

Internal Revenue Service

Proposed Collection; Comment Request for the Collection Requirements Within Revenue Procedure 2003-39

AGENCY: Internal Revenue Service (IRS), Treasury.

ACTION: Notice and request for comments.

SUMMARY: The Department of the Treasury, as part of its continuing effort to reduce paperwork and respondent burden, invites the general public and other Federal agencies to take this opportunity to comment on the continuing information collections, as required by the Paperwork Reduction Act of 1995. Currently, the IRS is soliciting comments concerning Revenue Procedure 2003-39, Section 1031 Like-Kind Exchanges Safe Harbor Requirements.

DATES: Written comments should be received on or before July 14, 2025 to be assured of consideration.

ADDRESSES: Direct all written comments to Andrea Garcia, Internal Revenue Service, Room 6526, 1111 Constitution Avenue NW, Washington, DC 20224 or by email to pra.comments@irs.gov. Please include the OMB Control Number 1545-1834 or Rev. Proc. 2003-39, in the Subject line.

FOR FURTHER INFORMATION CONTACT: Requests for additional information or copies of the forms should be directed to LaNita Van Dyke, at (202) 317-6009 or Internal Revenue Service, Room 6526, 1111 Constitution Avenue NW, Washington, DC 20224, or through the internet, at LanitaVanDyke@irs.gov.

SUPPLEMENTARY INFORMATION:

Title: Section 1031 Like-Kind Exchanges Safe Harbor Requirements.

OMB Number: 1545-1834.

Revenue Procedure Number: 2003-39.

Abstract: Revenue Procedure (Rev. Proc.) 2003-39 provides safe harbors for certain aspects of the qualification under 26 U.S.C. 1031 of certain exchanges of property pursuant to Like-Kind Exchanges (LKE) Programs for federal income tax purposes. Section 5 and 6 of the Rev. Proc. 2003-39 include the third-party disclosure and recordkeeping requirements needed for the assignment of safe harbor.

Current Actions: There is no change to the previously approved information collections.

Type of Review: Extension of a currently approved collection.

Affected Public: Business or other for-profit organizations.

Estimated Number of Responses: 8,600.

Estimated Time per Response: 1 hour.

Estimated Total Annual Burden Hours: 8,600 hours.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: May 6, 2025,
Molly J. Stasko,
Senior Tax Analyst.

[FR Doc. 2025-08325 Filed 5-12-25; 8:45 am]

BILLING CODE 4830-01-P